NUCLEAR REGULATORY COMMISSION

Sunshine Federal Register Notice

Agency Holding the Meetings: Nuclear Regulatory Commission.

DATES: Weeks of December 15, 22, 29, 2008; January 5, 12, 19, 2009.

Place: Commissioners' Conference Room, 11555 Rockville Pike, Rockville, Maryland.

Status: Public and Closed.

Week of December 15, 2008

Monday, December 15, 2008

1 p.m.

Briefing on Protection of the NRC Information Technology Infrastructure and Related Topics (Public Meeting followed by a Closed portion—Ex. 2).

The open portion of this meeting will be webcast live at the Web address— http://www.nrc.gov:

Wednesday, December 17, 2008

2 p.m. Briefing on Threat Environment Assessment (Closed— Ex. 1).

Week of December 22, 2008—Tentative

There are no meetings scheduled for the week of December 22, 2008.

Week of December 29, 2008—Tentative

There are no meetings scheduled for the week of December 29, 2008.

Week of January 5, 2009—Tentative

There are no meetings scheduled for the week of January 5, 2009.

Week of January 12, 2009—Tentative

There are no meetings scheduled for the week of January 12, 2009.

Week of January 19, 2009—Tentative

There are no meetings scheduled for the week of January 19, 2009.

* * * * *

The schedule for Commission meetings is subject to change on short notice. To verify the status of meetings, call (recording)—(301) 415-1292. Contact person for more information: Michelle Schroll, (301) 415-1662.

* * * * *

Additional Information

Affirmation of “Final Rule—Power Reactor Security Requirements (RIN 3150-AG63),” tentatively scheduled on Tuesday, December 9, 2008, was postponed and will be rescheduled.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, Rohn Brown, at 301-492-2279, TDD: 301-415-2100, or by e-mail at rohn.brown@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to darlene.wright@nrc.gov.

December 11, 2008.
R. Michelle Schroll,
Office of the Secretary.

[FR Doc. E8-30041 Filed 12-15-08; 11:15 am]

BILLING CODE 7590-01-P